DEPARTMENT OF COMMERCE

International Trade Administration

[A-560-826]

Monosodium Glutamate From the Republic of Indonesia: Preliminary Results of Antidumping Duty Administrative Review; 2020-2021

AGENCY: Enforcement and Compliance, International Trade Administration, Department of Commerce.

SUMMARY: The U.S. Department of Commerce (Commerce) preliminarily determines that sales of monosodium glutamate (MSG) from the Republic of Indonesia (Indonesia) have been made below normal value during the period of review (POR), November 1, 2020, through October 31, 2021. We invite interested parties to comment on these preliminary results.

DATES: Applicable December 6, 2022.

FOR FURTHER INFORMATION CONTACT: Andrew Huston, AD/CVD Operations, Office VII, Enforcement and Compliance, International Trade Administration, U.S. Department of Commerce, 1401 Constitution Avenue NW, Washington, DC 20230; telephone: (202) 482-4261.

SUPPLEMENTARY INFORMATION:

Background

Commerce is conducting an administrative review of the antidumping duty order on MSG from Indonesia covering two respondents: PT. Cheil Jedang Indonesia (CJ Indonesia) and PT. Miwon Indonesia (PT. Miwon).¹ For a complete description of the events that followed the initiation of this review, see the Preliminary Decision Memorandum.² On July 11, 2022, we extended the deadline for these preliminary results until no later than November 30, 2022.³

¹ See Initiation of Antidumping and Countervailing Duty Administrative Reviews, 86 FR 73734 (December 28, 2021). On August 26, 2022, Commerce published the final results of a changed circumstances review of MSG from Indonesia. Commerce found that PT. Daesang Ingredients Indonesia (PT. Daesang) is the successor-in-interest to PT. Miwon. See Monosodium Glutamate from the Republic of Indonesia: Final Results of Changed Circumstances Review, 87 FR 52506 (August 26, 2022) (MSG from Indonesia CCR). Because the effective date of this decision was after the POR, we continue to reference the respondent here as PT. Miwon.

² See Memorandum, “Decision Memorandum for the Preliminary Results of the Antidumping Duty Administrative Review: Monosodium Glutamate from the Republic of Indonesia; 2020-20201” dated concurrently with, and hereby adopted by, this notice (Preliminary Decision Memorandum).

³ See Memorandum, “Monosodium Glutamate from Indonesia: Extension of Deadline for Preliminary Results of Review,” dated July 16, 2021.

Scope of the Order ⁴

⁴ See Monosodium Glutamate from the People's Republic of China, and the Republic of Indonesia: Antidumping Duty Orders; and Monosodium Glutamate from the People's Republic of China: Amended Final Determination of Sales at Less Than Fair Value, 79 FR 70505 (November 26, 2014) (Order).

The merchandise covered by this Order is MSG, whether or not blended or in solution with other products. Specifically, MSG that has been blended or is in solution with other product(s) is included in the Order when the resulting mix contains 15 percent or more of MSG by dry weight. Products with which MSG may be blended include, but are not limited to, salts, sugars, starches, maltodextrins, and various seasonings. Further, MSG is included in the Order regardless of physical form (including, but not limited to, in monohydrate or anhydrous form, or as substrates, solutions, dry powders of any particle size, or unfinished forms such as MSG slurry), end-use application, or packaging. For a full description of the scope of the Order, see the Preliminary Decision Memorandum.

Methodology

Commerce is conducting this review in accordance with section 751(a) of the Tariff Act of 1930, as amended (the Act). Export price and constructed export price are calculated in accordance with section 772 of the Act. Normal value is calculated in accordance with section 773 of the Act. Further, because CJ Indonesia failed to cooperate to the best of its ability in responding to our requests for information, we relied on facts available, with adverse inferences, in determining this company's dumping margin, consistent with section 776 of the Act.

For a full description of the methodology underlying our conclusions, see the Preliminary Decision Memorandum. A list of topics included in the Preliminary Decision Memorandum is included as an appendix to this notice. The Preliminary Decision Memorandum is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.⁵

⁵ As noted above, on August 26, 2022, Commerce published the final results of a changed circumstances review of MSG from Indonesia. Commerce found that PT. Daesang is the successor-in-interest to PT. Miwon. See MSG from Indonesia CCR. Cash deposits of estimated antidumping duties required pursuant to the final results of this review will be applied to PT. Daesang. Liquidation instructions for the POR will be issued for PT. Miwon.

Preliminary Results of Review

As a result of our review, we preliminarily determine the following weighted-average dumping margins for the period November 1, 2020, through October 31, 2021:

Manufacturer/exporter | Weighted- average dumping margin (percent)
PT. Cheil Jedang Indonesia | * 58.67
PT. Daesang Ingredients Indonesia and PT. Miwon Indonesia ⁵ | 14.61
* Rate based on adverse facts available.

Disclosure and Public Comment

Commerce intends to disclose the calculations used in our analysis to parties in this review within five days of the date of publication of this notice in accordance with 19 CFR 351.224(b). Interested parties are invited to comment on the preliminary results of this review. Pursuant to 19 CFR 351.309(c)(1)(ii), interested parties may submit case briefs not later than 30 days after the date of publication of this notice. Rebuttal briefs, limited to issues raised in the case briefs, may be filed later than seven days after the date for filing case briefs.⁶ Parties who submit case briefs or rebuttal briefs in this review are requested to submit with each brief: (1) a statement of the issue; (2) a brief summary of the argument; and (3) a table of authorities.⁷ Case and rebuttal briefs should be filed using ACCESS and must be served on interested parties.⁸ Note that Commerce has temporarily modified certain of its requirements for serving documents containing business proprietary information, until further notice.⁹

⁶ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect)”).).

⁷ See 19 CFR 351.309(c)(2), (d)(2).

⁸ See 19 CFR 351.303 (for general filing requirements).

⁹ See 19 CFR 351.303(f).

Pursuant to 19 CFR 351.310(c), any interested party may request a hearing within 30 days of the publication of this notice in the Federal Register. If a hearing is requested, Commerce will notify interested parties of the hearing schedule. Interested parties who wish to request a hearing, or to participate if one is requested, must submit a written request to the Assistant Secretary for Enforcement and Compliance, filed electronically via ACCESS within 30 days after the date of publication of this notice. Requests should contain: (1) the party's name, address, and telephone number; (2) the number of participants; and (3) a list of the issues to be discussed. Issues raised in the hearing will be limited to those raised in the respective case briefs.

Assessment Rates

Upon completion of the administrative review, Commerce shall determine, and U.S. Customs and Border Protection (CBP) shall assess, antidumping duties on all appropriate entries covered by this review.¹⁰ If the weighted-average dumping margin is not zero or de minimis (i.e., less than 0.5 percent), then Commerce will calculate importer-specific ad valorem antidumping duty assessment rates based on the ratio of the total amount of dumping calculated for each importer's examined sales to the total entered value of those same sales in accordance with 19 CFR 351.212(b)(1). If the weighted-average dumping margin is zero or de minimis in the final results, or if an importer-specific assessment rate is zero or de minimis in the final results, Commerce will instruct CBP to liquidate the appropriate entries without regard to antidumping duties.

¹⁰ See 19 CFR 351.212(b).

In accordance with Commerce's “automatic assessment” practice, for entries of subject merchandise that entered the United States during the POR that were produced by PT. Miwon for which PT. Miwon did not know that its merchandise was destined to the United States, Commerce will instruct CBP to liquidate unreviewed entries at the all-others rate of 6.19 percent,¹¹ if there is no rate for the intermediate company(ies) involved in the transaction.¹² The final results of this review shall be the basis for the assessment of antidumping duties on entries of subject merchandise covered by the final results of this review, where applicable.

¹¹ See Order.

¹² For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of MSG from Indonesia entered, or withdrawn from warehouse, for consumption on or after the date of publication of the final results of this administrative review, as provided for by section 751(a)(2)(C) of the Act: (1) the cash deposit rate for the companies under review will be the rate established in the final results of this review (except, if the rate is zero or de minimis, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters will continue to be 6.19 percent, the all-others rate established in the investigation.¹³ These cash deposit requirements, when imposed, shall remain in effect until further notice.

¹³ See Order.

Final Results of Review

Unless otherwise extended, Commerce intends to issue the final results of this administrative review, including the results of our analysis of issues raised by the parties in the written comments, within 120 days of publication of these preliminary results in the Federal Register, pursuant to section 751(a)(3)(A) of the Act and 19 CFR 351.213(h)(1).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act, and 19 CFR 351.221(b)(4).

Dated: November 30, 2022.
Lisa W. Wang,
Assistant Secretary for Enforcement and Compliance.

Appendix—List of Topics Discussed in the Preliminary Decision

Memorandum

I. Summary

II. Background

III. Scope of the Order

IV. Application of Facts Available and Use of Adverse Inferences

V. Discussion of The Methodology

VI. Normal Value

VII. Currency Conversion

VIII. Recommendation

[FR Doc. 2022-26491 Filed 12-5-22; 8:45 am]

BILLING CODE 3510-DS-P